FEDERAL COMMUNICATIONS COMMISSION

47 CFR Part 73

[DA 00-1063; MM Docket No. 99-334; RM-9772]

Radio Broadcasting Services; Carney, MI

AGENCY: Federal Communications Commission.

ACTION: Final rule.

SUMMARY: This document allots Channel 260A to Carney, Michigan, in response to a petition filed by Escanaba License Corp. See 64 FR 68664, December 8, 1999. The coordinates for Channel 260A at Carney are 45-35-30 NL and 87-39-37 WL. There is a site restriction 7.8 kilometers (4.9 miles) west of the community. Canadian concurrence has been received for the allotment of Channel 260A at Carney. With this action, this docketed proceeding is terminated. A filing window for Channel 260A at Carney will not be opened at this time. Instead, the issue of opening a filing window for this channel will be addressed by the Commission in a subsequent order.

DATES: Effective June 26, 2000.

FOR FURTHER INFORMATION CONTACT: Kathleen Scheuerle, Mass Media Bureau, (202) 418-2180.

SUPPLEMENTARY INFORMATION: This is a summary of the Commission's Report and Order, MM Docket No. 99-334, adopted May 3, 2000, and released May 12, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

47 CFR PART 73—[AMENDED]

1. The authority citation for part 73 continues to read as follows:

Authority: 47 U.S.C. 154, 303, 334 and 336.

§ 73.202 [Amended]

2. Section 73.202(b), the Table of FM Allotments under Michigan, is amended by adding Carney, Channel 260A.

Federal Communications Commission.
John A. Karousos,
Chief, Allocations Branch, Policy and Rules Division, Mass Media Bureau.

[FR Doc. 00-13705 Filed 5-31-00; 8:45 am]

BILLING CODE 6712-01-U